DEPARTMENT OF COMMERCE

National Oceanic and Atmospheric Administration

[Docket No.: 200918-0249]

RIN 0648-BJ52

Endangered and Threatened Species; Critical Habitat for the Threatened Indo-Pacific Corals, Public Hearings and Extension of Public Comment Period

AGENCY: National Marine Fisheries Service (NMFS), National Oceanic and Atmospheric Administration (NOAA), Commerce.

ACTION: Notice of public hearings, extension of comment period.

SUMMARY: We, NMFS, will hold two public hearings related to our proposed rule to designate critical habitat for seven threatened corals in U.S. waters in the Indo-Pacific (Acropora globiceps, Acropora jacquelineae, Acropora retusa, Acropora speciosa, Euphyllia paradivisa, Isopora crateriformis, and Seriatopora aculeata) under the Endangered Species Act (ESA). We are also extending the public comment period for this proposed rule by 30 days to February 25, 2021.

DATES: Public hearings on the proposed rule to designate critical habitat for the seven threatened Indo-Pacific corals will be held online on the following dates, during the early evening hours of the affected jurisdictions (Guam, the Commonwealth of the Northern Mariana Islands, American Samoa). Times are given in Chamorro Standard Time (GMT+10:00), Samoa Standard Time (GMT-11:00), and Hawaii Standard Time (GMT-10:00).

• The first hearing is scheduled for the early evening in Guam and the Commonwealth of the Northern Mariana Islands, from 4 to 7 p.m. Chamorro Standard Time on Wednesday, January 20, 2021 (7 to 10 p.m. Samoa Standard Time on Tuesday, January 19, 2021, and 8 to 11 p.m. Hawaii Standard Time on Tuesday, January 19, 2021).

• The second hearing is scheduled for the early evening in American Samoa, from 4 to 7 p.m. Samoa Standard Time on Thursday, January 21, 2021 (1 to 4 p.m. Chamorro Standard Time on Friday, January 22, 2021, and 5 to 8 p.m. Hawaii Standard Time on Thursday, January 21, 2021).

Since the hearings will be held online, any member of the public can join by internet or phone regardless of location. Instructions for joining the hearings are provided under ADDRESSES below.

The proposed rule to designate critical habitat for the seven ESA-listed corals was issued on November 27, 2020 (85 FR 76262), and provided for a public comment period to end on January 26, 2021. The comment period is now extended 30 days and will close on February 25, 2021. Comments must be received by February 25, 2021, as specified under ADDRESSES. Comments received after this date may not be accepted.

ADDRESSES: Both public hearings will be conducted as Webex meetings. You may join the Webex meetings using a web browser, the Webex desktop app (app installation required), a mobile app on a phone (app installation required), or audio-only using just a phone call, as specified below.

• To join the first hearing, click on the link https://noaanmfs-meets.webex.com/noaanmfs-meets/onstage/g.php?MTID=ecfe01efe62d246f452d3bf93c907008a Password: “coral”. If you do not have internet access, you may join by phone: US Toll +1-415-527-5035 Access code: 199 477 7805

• To join the second hearing, click on link https://noaanmfs-meets.webex.com/noaanmfs-meets/onstage/g.php?MTID=e616fdb7791fad92917495cd0002b23bd Password: “coral”. If you do not have internet access, you may join by phone: US Toll +1-415-527-5035 Access code: 199 394 4864

More information about the public hearings is provided under SUPPLEMENTARY INFORMATION. You may submit comments verbally or in writing at the public hearings, or in writing by any of the following methods. Comments must be received by February 25, 2021:

• Electronic Submissions: Submit all electronic public comments via the Federal eRulemaking Portal. Go to www.regulations.gov/#!docketDetail;D=NOAA-NMFS-2016-0131 click the “Comment Now” icon, complete the required fields, and enter or attach your comments.

• Mail: Lance Smith, Protected Resources Division, NMFS, Pacific Islands Regional Office, NOAA Inouye Regional Center, 1845 Wasp Blvd., Bldg. 176, Honolulu, HI 96818.

Instructions: You must submit comments by one of the previously described methods to ensure that we receive, document, and consider them. Comments sent by any other method, to any other address or individual, or received after the end of the comment period, may not be considered. All comments received are a part of the public record and will generally be posted to http://www.regulations.gov without change. All Personal Identifying Information (for example, name, address, etc.) voluntarily submitted by the commenter may be publicly accessible. Do not submit confidential business information or otherwise sensitive or protected information.

NMFS will accept anonymous comments (enter “N/A” in the required fields if you wish to remain anonymous).

FOR FURTHER INFORMATION CONTACT: Lance Smith at lance.smith@noaa.gov or 808-725-5131, or Layne Bolen at layne.bolen@noaa.gov.

SUPPLEMENTARY INFORMATION:

Background

On November 27, 2020, NMFS proposed to designate critical habitat for seven Indo-Pacific corals listed as threatened under the ESA within U.S. waters in Guam, the Commonwealth of the Northern Mariana Islands (CNMI), American Samoa, and the Pacific Remote Island Area (PRIA). The seven species are Acropora globiceps, A. jacquelineae, A. retusa, A. speciosa, Euphyllia paradivisa, Isopora crateriformis, and Seriatopora aculeata. Proposed coral critical habitat consists of substrate and water column habitat characteristics essential for the reproduction, recruitment, growth, and maturation of the listed corals.

Proposed critical habitat consists of 17 separate units, each of which contains all ESA-listed corals that occur there: There are four units in American Samoa (Tutuila, Ofu-Olosega, Ta`u, Rose Atoll); seven in CNMI (Rota, Aguijan, Tinian, Saipan, Anatahan, Pagan, and Maug Islands); five in PRIA (Howland, Palmyra, Kingman, Johnston, and Jarvis Islands); and one unit encompassing all proposed designations in Guam. Between one and six listed corals occur in each unit. The following areas are either ineligible for proposed critical habitat, or excluded because of national security impacts: A complex of overlapping Navy Surface Danger Zones off of Ritidian Point in Guam, other parts of Guam, parts of Tinian, a group of six Navy anchorage berths on Garapan Bank in Saipan, all of Farallon de Medinilla, and all of Wake Atoll.

Critical habitat protections apply only to Federal actions under Section 7 of the ESA; activities that are not funded, authorized, or carried out by a Federal agency are not subject to these protections. The proposed rule and other materials prepared in support of this action, including maps showing the proposed critical habitat, are available at: https://www.fisheries.noaa.gov/action/proposed-rule-designate-critical-habitat-threatened-indo-pacific-corals. We are accepting public comments for the proposed rule through February 25, 2021. Public comments can be submitted as described under ADDRESSES.

Public Hearings

The two public hearings will be conducted online as Webex meetings, as specified in ADDRESSES above. More detailed instructions for joining the Webex meetings are provided on our web page https://www.fisheries.noaa.gov/action/proposed-rule-designate-critical-habitat-threatened-indo-pacific-corals. If you do not have internet access, you may join by phone at the numbers listed in ADDRESSES above.

Each hearing will follow the same format and cover the same material. The hearings will begin with a brief presentation by NMFS that gives an overview of critical habitat under the ESA and a summary of proposed coral critical habitat in Guam, CNMI, American Samoa, and PRIA. After the presentation but before public comments, there will be a question and answer session during which members of the public may ask NMFS staff questions about proposed coral critical habitat. Following the question and answer session, members of the public will have the opportunity to provide oral comments on the record regarding proposed coral critical habitat. Members of the public will also have the opportunity to submit written comments at the hearings. Written comments may also be submitted at any time during the relevant public comment period as described under ADDRESSES. All oral comments will be recorded, transcribed, and added to the public comment record for this proposed rule.

Authority: 16 U.S.C. 1531 et seq.

Dated: December 18, 2020.
Angela Somma,
Chief, Endangered Species Conservation Division, Office of Protected Resources, National Marine Fisheries Service.

[FR Doc. 2020-28434 Filed 12-22-20; 8:45 am]

BILLING CODE 3510-22-P